DEPARTMENT OF ENERGY

Federal Energy Regulatory Commission

[Project No. 3211-010]

Power Authority of the State of New York; Notice of Availability of Final Environmental Assessment

In accordance with the National Environmental Policy Act of 1969 and the Federal Energy Regulatory Commission's (Commission) regulations, 18 CFR part 380, the Office of Energy Projects has reviewed the application for a new license to continue to operate and maintain the Hinckley (Gregory B. Jarvis) Hydroelectric Project (Jarvis Project). The Jarvis Project is located on West Canada Creek, near the Hamlet of Hinckley in the counties of Oneida and Herkimer, New York.

The final EA contains staff's analysis of the potential environmental impacts of the project and concludes that licensing the project, with appropriate environmental protective measures, would not constitute a major federal action that would significantly affect the quality of the human environment.

The Commission provides all interested persons with an opportunity to view and/or print the final EA via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Andy Bernick at (202) 502-8660 or by email at andrew.bernick@ferc.gov.

Dated: March 28, 2024.
Debbie-Anne A. Reese,
Acting Secretary.

[FR Doc. 2024-07043 Filed 4-2-24; 8:45 am]

BILLING CODE 6717-01-P